DEPARTMENT OF JUSTICE

Antitrust Division

Notice Pursuant to the National Cooperative Research and Production Act of 1993—Clean Highly Efficient Decarbonized Engines

Notice is hereby given that, on February 14, 2024, pursuant to section 6(a) of the National Cooperative Research and Production Act of 1993, 15 U.S.C. 4301 et seq. (“the Act”), Clean Highly Efficient Decarbonized Engines (“CHEDE-9”) has filed written notifications simultaneously with the Attorney General and the Federal Trade Commission disclosing changes in its membership. The notifications were filed for the purpose of extending the Act's provisions limiting the recovery of antitrust plaintiffs to actual damages under specified circumstances. Specifically, Cummins, Columbus, IN; The Lubrizol Corporation, Wickliffe, OH; Allison Transmission, Inc., Indianapolis, IN; Hyundai Motor Group, Seoul, REPUBLIC OF KOREA; Denso, Aichi ken, JAPAN; and Hino Motors, Ltd., Tokyo, JAPAN, have been added as parties to this venture.

No other changes have been made in either the membership or planned activity of the group research project. Membership in this group research project remains open, and CHEDE-9 intends to file additional written notifications disclosing all changes in membership.

On January 4, 2024, CHEDE-9 filed its original notification pursuant to section 6(a) of the Act. The Department of Justice published a notice in the Federal Register pursuant to section 6(b) of the Act on February 6, 2024 (89 FR 8243).

Suzanne Morris,
Deputy Director Civil Enforcement Operations, Antitrust Division.

[FR Doc. 2024-07945 Filed 4-15-24; 8:45 am]

BILLING CODE P